DEPARTMENT OF THE INTERIOR

Bureau of Land Management

[OR 120 5882 CC99; HAG #06-0049 ]

Notice of Public Meeting, Coos Bay Resource Advisory Committee Meeting

AGENCY: Bureau of Land Management, U.S. Department of the Interior.

ACTION: Notice of Bureau of Land Management Coos Bay District Resource Advisory Committee meeting as identified in Section 205(f)(2) of the Secure Rural Schools and Community Self-Determination Act of 2000, Public Law 106-393.

SUMMARY: The Bureau of Land Management Coos Bay District Resource Advisory Committee is scheduled to meet on February 16, 2006, from 9 a.m. until 4 p.m. at the Ellen Warring Learning Center at the Bureau of Land Management's New River Area of Critical Environmental Concern. The Ellen Warring Learning Center is located at 86342 Croft Lake Lane, Bandon, OR 97411. The purpose of this meeting will be for the election of a Chair person, provide updates on budget and project status, and a field tour. There will be an opportunity for the public to address the Coos Bay District Resource Advisory Committee at approximately 10:30 a.m.

FOR FURTHER INFORMATION CONTACT: Mark Johnson, Bureau of Land Management Coos Bay District Manager, at (541) 756-0100 or Glenn Harkleroad, District Restoration Coordinator, at (541) 751-4361, or glenn_harkleroad@or.blm.gov. The mailing address for the Bureau of Land Management Coos Bay District Office is 1300 Airport Lane, North Bend, Oregon 97459.

Dated: January 13, 2006.
Mark Johnson,
Coos Bay District Manager.

[FR Doc. E6-713 Filed 1-20-06; 8:45 am]

BILLING CODE 4310-33-P